DEPARTMENT OF HEALTH AND HUMAN SERVICES

National Institutes of Health

National Heart, Lung, and Blood Institute; Amended Notice of Meeting

Notice is hereby given of a change in the meeting of the National Asthma Education Prevention Program Coordinating Committee, July 09, 2021, 11:00 a.m. to July 09, 2021, 02:00 p.m., National Institutes of Health, 6100 Executive Boulevard, Rockville, MD 20852 which was published in the Federal Register on June 09, 2021, FR Doc 2021-12092, 86 FR 30611.

There is a correction to the committee link. The link for NAEPPC is: https://www.nhlbi.nih.gov/advisory-and-peer-review-committees/national-asthma-education-and-prevention-program-coordinating.

The meeting is open to the public.

Dated: June 11, 2021.
David W. Freeman,
Program Analyst, Office of Federal Advisory Committee Policy.

[FR Doc. 2021-12739 Filed 6-16-21; 8:45 am]

BILLING CODE 4140-01-P